DEPARTMENT OF COMMERCE

Foreign-Trade Zones Board

[Order No. 1934]

Foreign-Trade Zones 1 and 111, Merger and Reorganization under Alternative Site Framework, New York, New York

Pursuant to its authority under the Foreign-Trade Zones Act of June 18, 1934, as amended (19 U.S.C. 81a-81u), the Foreign-Trade Zones Board (the Board) adopts the following Order:

Whereas, the Board adopted the alternative site framework (ASF) (15 CFR 400.2(c)) as an option for the establishment or reorganization of zones;

Whereas, the City of New York, grantee of Foreign-Trade Zones 1 and 111, submitted an application to the Board (FTZ Docket B-90-2013, docketed 10-21-2013) for authority to merge FTZs 1 and 111 under FTZ 1 and reorganize the merged zone under the ASF with a service area of New York, Bronx, Kings, Queens, and Richmond Counties, New York, in and adjacent to the New York/Newark and John F. Kennedy International Airport Customs and Border Protection ports of entry, FTZ 1's existing Sites 1, 2, 3 and 5 would be categorized as magnet sites, existing Site 4 as a usage-driven site, and existing Site 1 of FTZ 111 would be renumbered as Site 6 of FTZ 1 and categorized as a magnet site;

Whereas, notice inviting public comment was given in the Federal Register (78 FR 63963, 10-25-2013) and the application has been processed pursuant to the FTZ Act and the Board's regulations; and,

Whereas, the Board adopts the findings and recommendation of the examiner's report, and finds that the requirements of the FTZ Act and the Board's regulations are satisfied;

Now, therefore, the Board hereby orders:

The application to merge FTZ 1 and FTZ 111 under FTZ 1 and reorganize the merged zone under the ASF is approved, subject to the FTZ Act and the Board's regulations, including Section 400.13, to the Board's standard 2,000-acre activation limit for the zone, to a ten-year ASF sunset provision for a magnet site that would terminate authority for Site 6 if not activated by March 31, 2024, to a five-year ASF sunset provision for magnet sites that would terminate authority for Sites 2, 3 and 5 if not activated by March 31, 2019, and to a three-year ASF sunset provision for usage-driven sites that would terminate authority for Site 4 if no foreign-status merchandise is admitted for a bona fide customs purpose by March 31, 2017.

Signed at Washington, DC, this 18th day of March 2014.
Paul Piquado,
Assistant Secretary of Commerce for Enforcement and Compliance, Alternate Chairman, Foreign-Trade Zones Board.
Attest:
Andrew McGilvray,
Executive Secretary.

[FR Doc. 2014-06577 Filed 3-24-14; 8:45 am]

BILLING CODE 3510-DS-P